NATIONAL CREDIT UNION ADMINISTRATION

Agency Information Collection Activities: Submission to OMB for Review; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until October 29, 2007.

ADDRESSES: Interested parties are invited to submit written comments to NCUA Clearance Officer listed below:

Clearance Officer: Mr. Neil McNamara, National Credit Union Administration, 1775 Duke Street, Alexandria, Virginia 22314-3428, Fax No. 703-837-2861. E-mail: ociomail@ncua.gov.

FOR FURTHER INFORMATION CONTACT: Requests for additional information or a copy of the information collection request should be directed to Tracy Sumpter at the National Credit Union Administration, 1775 Duke Street, Alexandria, VA 22314-3428, or at (703) 518-6444.

SUPPLEMENTARY INFORMATION: Proposal for the following collection of information:

Title: Production of Nonpublic Records and Testimony of Employees in Legal Proceedings.

OMB Number: 3133-0146.

Form Number: None.

Type of Review: Extension of a currently approved collection.

Respondents: Respondents will most likely be persons involved in legal proceedings.

Estimated No. of Respondents/Recordkeepers: 36.

Estimated Burden Hours per Response: 2.

Frequency of Response: On occasion.

Estimated Total Annual Burden Hours: 72.

Estimated Total Annual Cost: None.

By the National Credit Union Administration Board on September 20, 2007.
Mary Rupp,
Secretary of the Board.

[FR Doc. E7-18998 Filed 9-25-07; 8:45 am]

BILLING CODE 7535-01-P